ENVIRONMENTAL PROTECTION AGENCY

40 CFR Part 52

[AK-01-004b; FRL-7133-2]

Approval and Promulgation of State Implementation Plans; State of Alaska; Fairbanks

AGENCY: Environmental Protection Agency.

ACTION: Proposed rule.

SUMMARY: The Environmental Protection Agency (EPA) is proposing to approve a State Implementation Plan (SIP) revision submitted by the State of Alaska. This revision provides for attainment of the carbon monoxide (CO) national ambient air quality standards (NAAQS) in the Fairbanks Nonattainment Area. This action also proposes to approve the use of the “CO Emissions Model” for SIP development purposes in EPA Region 10.

DATES: Written comments must be received in writing by March 6, 2002.

ADDRESSES: Written comments should be addressed to: Connie Robinson, EPA, Office of Air Quality (OAQ-107), 1200 Sixth Avenue, Seattle, Washington 98101.

Copies of the State's request and other information supporting this action are available for inspection during normal business hours at the following locations: EPA, Office of Air Quality (OAQ-107), 1200 Sixth Avenue, Seattle, Washington 98101, and the Alaska Department of Environmental Conservation, 410 Willoughby Avenue Suite 303, Juneau, AK 99801-1795.

FOR FURTHER INFORMATION CONTACT: Connie Robinson, Office of Air Quality (OAQ-107), EPA, 1200 Sixth Avenue, Seattle, Washington, (206) 553-1086.

SUPPLEMENTARY INFORMATION: In the Final Rules section of this Federal Register, EPA is approving the State's SIP submittal as a direct final rule without prior proposal because the Agency views this as a noncontroversial submittal and anticipates no relevant adverse comments. If no relevant adverse comments are received in response to this action, no further activity is contemplated. If the EPA receives relevant adverse comments, the direct final rule will be withdrawn and all public comments received will be addressed in a subsequent final rule based on this proposed rule. EPA will not institute a second comment period. Any parties interested in commenting on this action should do so at this time. Please note that if EPA receives relevant adverse comment on an amendment, paragraph or section of this rule and if that provision may be severed from the remainder of the rule, EPA may adopt as final those provisions of the rule that are not the subject of a relevant adverse comment.

For additional information, see the direct final rule which is located in the Rules section of this Federal Register.

Dated: January 16, 2002.
Randall F. Smith,
Acting Regional Administrator, Region 10.

[FR Doc. 02-2506 Filed 2-1-02; 8:45 am]

BILLING CODE 6560-50-P